DEPARTMENT OF COMMERCE

International Trade Administration

[A-357-810]

Notice of Final Results and Recision in Part of Antidumping Duty Administrative Review; Oil Country Tubular Goods, Other Than Drill Pipe, From Argentina

AGENCY: Import Administration, International Trade Administration, Department of Commerce.

ACTION: Notice of final results and recision in part of antidumping duty administrative review.

SUMMARY: On September 9, 2002, the Department of Commerce (the Department) published in the Federal Register the preliminary results of its administrative review of the antidumping duty order on oil country tubular goods From Argentina. See Notice of Preliminary Results of Antidumping Duty Administrative Review; Oil Country Tubular Goods from Argentina, 67 FR 57215 (September 9, 2002) (Preliminary Results). This review covers imports of subject merchandise from Siderca S.A.I.C. (Siderca) and Acindar Industria Argentina de Aceros S.A. (Acindar). The period of review is August 1, 2000, through July 31, 2001.

Based on our analysis of the comments received, we have made changes in the margin calculations for Acindar. Therefore, the final results differ from the preliminary results. The final weighted-average dumping margin for Acindar is listed below in the section entitled “Final Results of Review.” In addition, we are rescinding the review with respect to Siderca.

EFFECTIVE DATE: March 19, 2003.

FOR FURTHER INFORMATION CONTACT: Fred Baker, Mike Heaney, or Robert James, AD/CVD Enforcement, Group III, Import Administration, International Trade Administration, U.S. Department of Commerce, 14th Street and Constitution Avenue, NW., Washington, DC 20230, telephone: (202) 482-2924, (202) 482-4475, or (202) 482-0649, respectively.

SUPPLEMENTARY INFORMATION:

Background

On September 9, 2002, the Department published the Preliminary Results. We invited parties to comment on those preliminary results. On October 9, 2002, we received case briefs from United States Steel Corporation (petitioner) and Acindar. On October 17, 2002, we received rebuttal briefs from petitioner, Acindar, and IPSCO Tubulars, Inc., Lone Star Steel Company, and Maverick Tube Corporation (domestic interested parties). On January 31, 2003, we issued a supplemental questionnaire to Acindar. We received Acindar's response on February 12, 2003. On February 19, 2003, petitioner submitted a case brief commenting on that submission. On February 21, 2003, Acindar submitted rebuttal comments.

On October 9, 2002, we received a request from Acindar for a public hearing on the issues raised in the case and rebuttal briefs. We held this hearing on December 5, 2002. A transcript of the hearing is on file in the central records unit (CRU) at room B-099 of the Department.

As indicated in our preliminary results, following publication of the preliminary results we continued to seek confirmation that Siderca had no shipments to the United States during the POR. See Preliminary Results at 57215. In response to requests for information, we received submissions from Siderca on September 16 and October 9, 2002. We received comments from petitioner on September 24 and November 12, 2002. In response to petitioner's November 12, 2002, comments we received a voluntary submission from Siderca on November 26, 2002. We subsequently received further comments from petitioner on December 23, 2002. From February 20 to 22, 2003, we verified Siderca's no-shipment claim, using standard verification procedures, including on-site inspection of the manufacturer's facilities and the examination of relevant sales and financial records. Our verification results are outlined in the public and proprietary versions of the verification report, dated March 4, 2003, which are on file in the Central Records Unit of the Department.

Under section 751(a)(3)(A) of the Tariff Act, the Department may extend the deadline for completion of an administrative review if it determines that it is not practicable to complete the review with in the statutory time limit. On December 12, 2002, the Department extended the time limit for the final results to March 10, 2003. See Oil Country Tubular Goods From Argentina: Notice of Extension of Time Limit of Final Results of Antidumping Duty Administrative Review, 67 FR 76381 (December 12, 2002). We have now completed the administrative review in accordance with section 751 of the Tariff Act.

Period of Review

The POR is August 1, 2000, through July 31, 2001.

Scope of the Review

Oil country tubular goods (OCTG) are hollow steel products of circular cross-section, including oil well casing and tubing of iron (other than cast iron) or steel (both carbon and alloy), whether seamless or welded, whether or not conforming to American Petroleum Institute (API) or non-API specifications, whether finished or unfinished (including green tubes and limited service OCTG products).

This scope does not cover casing or tubing pipe containing 10.5 percent or more of chromium. Drill pipe was excluded from this order beginning August 11, 2000. See Continuation of Countervailing and Antidumping Duty Orders on Oil Country Tubular Goods From Argentina, Italy, Japan, Korea and Mexico, and Partial Revocation of Those Orders From Argentina and Mexico With Respect to Drill Pipe, 66 FR 38630 (July 25, 2001).

The OCTG subject to this order are currently classified in the Harmonized Tariff Schedule of the United States (HTSUS) under item numbers: 7304.29.10.10, 7304.29.10.20, 7304.29.10.30, 7304.29.10.40, 7304.29.10.50, 7304.29.10.60, 7304.29.10.80, 7304.29.20.10, 7304.29.20.20, 7304.29.20.30, 7304.29.20.40, 7304.29.20.50, 7304.29.20.60, 7304.29.20.80, 7304.29.30.10, 7304.29.30.20, 7304.29.30.30, 7304.29.30.40, 7304.29.30.50, 7304.29.30.60, 7304.29.30.80, 7304.29.40.10, 7304.29.40.20, 7304.29.40.30, 7304.29.40.40, 7304.29.40.50, 7304.29.40.60, 7304.29.40.80, 7304.29.50.15, 7304.29.50.30, 7304.29.50.45, 7304.29.50.60, 7304.29.50.75, 7304.29.60.15, 7304.29.60.30, 7304.29.60.45, 7304.29.60.60, 7304.29.60.75, 7305.20.20.00, 7305.20.40.00, 7305.20.60.00, 7305.20.80.00, 7306.20.10.30, 7306.20.10.90, 7306.20.20.00, 7306.20.30.00, 7306.20.40.00, 7306.20.60.10, 7306.20.60.50, 7306.20.80.10, and 7306.20.80.50.

The HTSUS subheadings are provided for convenience and customs purposes. Our written description of the scope of this order is dispositive.

Recision of Review

In the preliminary results we stated that Siderca reported that it had no shipments during the POR. We also stated we would continue seeking confirmation of this claim and that we would put our findings into a memorandum which we would place on the record of this review. Our on-site inspection of Siderca's sales facilities uncovered no evidence that Siderca had shipments to the United States during the POR. A memorandum describing the verification is on file in the central records unit of the Herbert C. Hoover building. Therefore, we are rescinding the review with respect to Siderca. Siderca's cash deposit rate will remain at 1.36 percent, which is the rate established for Siderca in the less-than-fair-value investigation. See Final Determination of Sales at Less Than Fair Value: Oil Country Tubular Goods from Argentina, 60 FR 33539 (June 28, 1995) and Antidumping Duty Order: Oil Country Tubular Goods from Argentina, 60 FR 41055 (August 11, 1995).

Analysis of Comments Received

All issues raised in the case and rebuttal briefs by parties to this administrative review are addressed in the “Issues and Decision Memorandum” (Decision Memorandum) from Barbara E. Tillman, Acting Deputy Assistant Secretary, Import Administration, to Joseph A. Spetrini, Acting Assistant Secretary for Import Administration, dated March 10, 2003, which is hereby adopted by this notice. A list of the issues which parties have raised and to which we have responded, all of which are in the Decision Memorandum, is attached to this notice as an appendix. Parties can find a complete discussion of all issues raised in this review and the corresponding recommendations in this public memorandum which is on file in the Central Records Unit, room B-099 of the main Department of Commerce building. In addition, a complete version of the decision memorandum can be accessed directly on the Web at http://ia.ita.doc.gov/. The paper copy and electronic version of the decision memorandum are identical in content.

Changes Since the Preliminary Results

Based on our analysis of comments received, we have made changes in the margin calculations for Acindar. The changes are listed below:

1. We calculated depreciation on a per-unit basis based on production volume, rather than by applying a ratio to the cost of manufacture.

2. We added direct selling expenses into the calculation of constructed value (CV).

3. We removed packing from the setup string in the calculation of CVPROFIT and FUPDOL.

4. We removed the downward adjustment to CV for the Factor Convergence program. Additionally, we made the Reintegro reimbursement as a downward adjustment to CV, rather than a downward adjustment to selling expenses.

Final Results of Review

As a result of our review, we determine the weighted-average dumping margin for the period August 1, 2000, through July 31, 2001, to be as follows:

Manufacturer/exporter | Margin (percent)
Acindar | 60.73

The Department will determine, and the Customs Service shall assess, antidumping duties on all appropriate entries. In accordance with 19 CFR 351.212(b)(1), we have calculated an exporter/importer (or customer)-specific assessment rate for merchandise subject to this review. The Department will issue appropriate assessment instructions directly to the Customs Service within 15 days of publication of these final results of review. We will direct the Customs Service to assess the resulting assessment rates against the entered customs values for the subject merchandise on each of the importer's/customer's entries during the review period. For duty-assessment purposes, we will calculate importer-specific assessment rates by dividing the dumping margins calculated for each importer by the total entered value of sales for each importer during the POR.

Cash Deposit Requirements

The following deposit requirements will be effective upon publication of this notice of final results of administrative review for all shipments of the subject merchandise entered, or withdrawn from warehouse, for consumption on or after the publication, as provided by section 751(a)(1) of the Tariff Act: (1) The cash deposit rate for the reviewed company will be the rate shown above; (2) for previously reviewed or investigated companies not listed above, the cash deposit will continue to be the company-specific rate published for the most recent period; (3) if the exporter is not a firm covered in this review, a prior review, or the original investigation, but the manufacturer is, the cash deposit rate will be that established for the most recent period for the manufacturer of the merchandise; and (4) if neither the exporter nor the manufacturer is a firm covered in this review, any previous reviews, or the LTFV investigation, the cash deposit rate will be 1.36 percent, the “all others” rate established in the LTFV investigation. See Antidumping Duty Order: Oil Country Tubular Goods from Argentina, 60 FR 41055 (August 11, 1995).

These deposit requirements shall remain in effect until publication of the final results of the next administrative review.

Notification of Interested Parties

This notice also serves as a reminder to importers of their responsibility under 19 CFR 351.402(f) to file a certificate regarding the reimbursement of antidumping duties or countervailing duties prior to liquidation of the relevant entries during this review period. Failure to comply with this requirement could result in the Secretary's presumption that reimbursement of antidumping duties or countervailing duties occurred and the subsequent assessment of double antidumping duties or countervailing duties.

This notice also serves as a reminder to parties subject to administrative protective orders (APOs) or their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing this notice in accordance with sections 751(a)(1) and 777(i)(1) of the Tariff Act.

Dated: March 10, 2003.
Joseph A. Spetrini,
Acting Assistant Secretary for Import Administration.

Appendix 1—Issues in the Decision Memorandum

Comment 1: Calculation of CV Profit.

Comment 2: Depreciation Expenses.

Comment 3: Bad Debt.

Comment 4: General and Administrative Expenses.

Comment 5: Rebates Received Under Argentine Government Rebate Programs.

Comment 6: Clerical Errors.

Comment 7: No Shipments.

[FR Doc. 03-6478 Filed 3-18-03; 8:45 am]

BILLING CODE 3510-DS-P